DEPARTMENT OF EDUCATION

Comprehensive Centers Program

AGENCY: Office of Elementary and Secondary Education.

ACTION: Notice of waivers for the Comprehensive Centers program and funding of continuation grants.

SUMMARY: The Secretary waives the requirements in 34 CFR 75.250 and 75.261(c)(2) of the Education Department General Administrative Regulations (EDGAR) that, respectively, generally prohibit project periods exceeding five years and project period extensions involving the obligation of additional Federal funds. The waivers enable the 21 current grantees under the Comprehensive Centers program to continue to receive Federal funding beyond the five-year limitation in 34 CFR 75.250.

DATES: These waivers are effective June 7, 2010.

FOR FURTHER INFORMATION CONTACT: Frances Walter, U.S. Department of Education, 400 Maryland Avenue, SW., room 3W113, Washington, DC 20202-5970. Telephone: (202) 205-9198 or by e-mail: fran.walter@ed.gov.

If you use a telecommunications device for the deaf (TDD), call the Federal Relay Service (FRS), toll free, at 1-800-877-8339.

SUPPLEMENTARY INFORMATION:

Background

Under the Comprehensive Centers program, the Department supports grants to operate regional technical assistance centers and national content centers as authorized by sections 203 through 207 of the Educational Technical Assistance Act of 2002 (ETAA) (20 U.S.C. 9602-9606). The purpose of these centers is to provide technical assistance primarily to States as States work to help local educational agencies (LEAs) and schools to close achievement gaps in core content areas and raise student achievement in schools, and especially to help LEAs and schools to implement the school improvement provisions under section 1116 of the Elementary and Secondary Education Act of 1965, as amended (ESEA) in schools in need of improvement, as defined by section 1116(b) of the ESEA.

Eligible applicants for Comprehensive Centers grants are research organizations, institutions, agencies, institutions of higher education, partnerships among such entities, or individuals, with demonstrated ability or capacity to carry out the activities described in the notice inviting applications published in the Federal Register on June 3, 2005 (70 FR 53283) and corrected in the Federal Register on June 20, 2005 (70 FR 35415).

On March 18, 2010, we published a notice in the Federal Register (75 FR 13110) proposing waivers of 34 CFR 75.250 and 34 CFR 75.261(c)(2) of EDGAR in order to give early notice of the possibility that additional years of funding under the Comprehensive Centers program may be available for current grantees through continuation awards. As outlined in that notice, it would not be in the public interest to hold new competitions under the Comprehensive Centers program because of the pending reauthorization of the ESEA and the ETAA, and the fact that the primary work of the Comprehensive Centers is to help States, LEAs, and schools implement key school improvement provisions of the ESEA. In addition, it would be contrary to the public interest to have a lapse in Comprehensive Center services pending these reauthorizations. The comments we received in response to the notice of proposed waivers were supportive of the Comprehensive Centers program and the proposed waivers.

For these reasons, the Secretary waives the requirement in 34 CFR 75.250, which prohibits project periods exceeding five years, and the requirement in 34 CFR 75.261(c)(2), which limits the extension of a project period if the extension involves the obligation of additional Federal funds. With these waivers: (1) Current Comprehensive Centers grantees will receive FY 2010 funds and continue to operate through FY 2011 and possibly beyond, and (2) we will not announce a new competition or make new awards under the Comprehensive Centers program in FY 2010.

Analysis of Comments and Changes

In response to the Secretary's invitation in the March 18, 2010, notice of proposed waivers, two parties submitted comments regarding the proposed waivers. An analysis of the comments follows.

Comment: One commenter identified specific support that a regional center and content center have provided in helping a State educational agency (SEA) to assist LEAs and schools in closing achievement gaps and raising student achievement, especially in those LEAs and schools in need of improvement and stated that the waivers would ensure that these important services can be continued without interruption.

Discussion: We note the importance of the support of the Comprehensive Centers program for school improvement initiatives and agree that it would be contrary to the public interest to have a lapse in these services.

Changes: None.

Comment: One commenter noted the important financial and programmatic contributions made by the Office of Special Education Programs within the Department's Office of Special Education and Rehabilitative Services (OSERS) to the Comprehensive Centers. The commenter credited these contributions with creating more effective communication between the Office of Elementary and Secondary Education (OESE) and OSERS, reducing needless duplication of initiatives, and increasing integration of content expertise. Finally, the commenter urged the Department to continue promoting this shared oversight by involving OSERS leadership in deliberations about the future of the Comprehensive Centers program.

Discussion: We appreciate the commenter's identification of the valuable contribution of OSERS leadership in supporting the Comprehensive Centers program, both financially and programmatically. OESE anticipates continuing this positive relationship by involving OSERS in discussions about the future of the program.

Changes: None.

These waivers of 34 CFR 75.250 and 75.261(c)(2) do not affect the applicability of the requirements in 34 CFR 75.253 (continuation of a multi-year project after the first budget period) to any current Comprehensive Centers grantee that receives a continuation award as a result of the waivers.

In addition, these waivers do not exempt current Comprehensive Centers grantees from the account closing provisions of 31 U.S.C. 1552(a) nor do they extend the availability of funds previously awarded to current Comprehensive Center grantees. As a result of 31 U.S.C. 1552(a), appropriations available for a limited period may be used for payment of valid obligations for only five years after the expiration of their period of availability for Federal obligation. After that time, the unexpended balance of those funds is canceled and returned to the U.S. Treasury Department and is unavailable for restoration for any purpose. These waivers do not change this requirement.

These waivers ensure that the important services provided by the current Comprehensive Centers grantees will be continued, as the Department works on reauthorization of the ESEA and ETAA and designs a Comprehensive Centers program that is aligned with the Department's technical assistance priorities. During this interim period, the activities of the current Comprehensive Centers grantees will be modified to support these technical assistance priorities.

Waivers—Comprehensive Centers Program

The Secretary waives the requirements in 34 CFR 75.250 and 75.261(c)(2), which prohibit project periods exceeding five years and extensions of project periods that involve the obligation of additional Federal funds, for the current Comprehensive Centers grantees.

Regulatory Flexibility Act Certification

The Secretary certifies that the waivers will not have a significant economic impact on a substantial number of small entities.

The small entities that will be affected by these waivers are:

(a) The FY 2005 grantees currently receiving Federal funds; and

(b) The entities that are eligible for an award under the Comprehensive Centers program (i.e., research organizations, institutions, agencies, institutions of higher education, partnerships among such entities, or individuals, with the demonstrated ability or capacity to carry out the activities described in the notice inviting applications published in the Federal Register on June 3, 2005 (70 FR 53283) and corrected in the Federal Register on June 20, 2005 (70 FR 35415)).

The Secretary certifies that these waivers will not have a significant economic impact on these entities because the waivers and the activities required to support the additional years of funding will not impose excessive regulatory burdens or require unnecessary Federal supervision. The waivers will impose minimal requirements to ensure the proper expenditure of program funds, including requirements that are standard for continuation awards.

Paperwork Reduction Act of 1995

This notice of waivers does not contain any information collection requirements.

Intergovernmental Review

This program is subject to Executive Order 12372 and the regulations in 34 CFR part 79. One of the objectives of the Executive Order is to foster an intergovernmental partnership and a strengthened federalism. The Executive Order relies on processes developed by State and local governments for coordination and review of proposed Federal financial assistance.

This document provides notification of our specific plans and actions for this program.

Accessible Format: Individuals with disabilities can obtain this document in an accessible format (e.g., braille, large print, audiotape, or computer diskette) on request to the contact person listed under FOR FURTHER INFORMATION CONTACT.

Electronic Access to This Document

You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

(Catalog of Federal Domestic Assistance Number 84.283B, Comprehensive Centers Program)

Program Authority: 20 U.S.C. 9601-9608.

Dated: June 2, 2010.
Thelma Meléndez de Santa Ana,
Assistant Secretary for Elementary and Secondary Education.

[FR Doc. 2010-13571 Filed 6-4-10; 8:45 am]

BILLING CODE 4000-01-P